DEPARTMENT OF HOMELAND SECURITY

Disaster Recovery Survey of Businesses

AGENCY: Office of Policy, Private Sector Office, DHS.

ACTION: Submission for OMB review; comment request.

SUMMARY: The Department of Homeland Security, Office of the Secretary, Private Sector Office has submitted the following information collection request (ICR) to the Office of Management and Budget (OMB) for review and clearance in accordance with the Paperwork Reduction Act of 1995 (Pub. L. 104-13, 44 U.S.C. Chapter 35). A copy of this ICR, with applicable supporting documentation, may be obtained by calling Gary Becker, 202-282-9013 (this is not a toll free number).

DATES: Comments are encouraged and will be accepted until October 16, 2006. This process is conducted in accordance with 5 CFR 1320.10

ADDRESSES: Comments and questions about this Information Collection Request should be forwarded to the Office of Information and Regulatory Affairs, Attn: OMB Desk Officer for the Department of Homeland Security, Office of Management and Budget, Room 10235, Washington, DC 20503.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

FOR FURTHER INFORMATION CONTACT: Gary Becker 202-282-9073 (this is not a toll free number).

Analysis

Agency: Department of Homeland Security, Office of the Secretary, Private Sector Office.

Title: Disaster Recovery Survey of Businesses.

OMB Number: 1601-NEW.

Frequency: One-time collection.

Affected Public: Business owners and managers in region impacted by a disaster.

Number of Respondents: 2000 per year.

Estimated Time Per Respondent: 15 minutes.

Total Burden Hours: 500 hours.

Total Burden Cost (capital/startup): $0.00.

Total Burden Cost (operating/maintaining): $0.00.

Description: The Department of Homeland Security (DHS), Office of Policy, Private Sector Office will distribute a written survey instrument to business owners and managers impacted by a natural or man-made disaster. Distribution and collection will occur within two months of the event. The survey contains general questions about losses incurred by the business as a result of the disaster, as well as progress made in the initial recovery. All information will be compiled for analysis and reported only at the aggregate level. Results of the analysis will be used to gauge the economic impact of the disaster as well as the effectiveness of recovery efforts. Participation will be voluntary and also provide an opportunity for the private sector to inform the Department of Homeland Security about major issues and concerns with the recovery process.

Scott Charbo,
Chief Information Officer.

[FR Doc. E6-13444 Filed 8-15-06; 8:45 am]

BILLING CODE 4410-10-P